DEPARTMENT OF HEALTH AND HUMAN SERVICES

Health Resources and Services Administration

Notice of Request for Public Comments on a Draft Recommendation To Update the HRSA-Supported Women's Preventive Services Guideline Relating to Screening for Urinary Incontinence

AGENCY: Health Resources and Services Administration (HRSA), U. S. Department of Health and Human Services.

ACTION: Notice.

SUMMARY: This notice seeks comments on a draft recommendation to update the HRSA-supported Women's Preventive Services Guidelines (“Guidelines”) relating to Screening for Urinary Incontinence. This draft recommendation has been developed through a cooperative agreement, known as the Women's Preventive Services Initiative (WPSI), with the American College of Obstetricians and Gynecologists (ACOG), through which they convene health professionals to develop draft recommendations. Under applicable law, non-grandfathered group health plans and health insurance issuers must include coverage, without cost sharing, for certain preventive services, including those provided for in the HRSA-supported Guidelines. The Departments of Labor, Health and Human Services, and Treasury have previously issued regulations, which describe how group health plans and health insurance issuers apply the coverage requirements.

DATES: Members of the public are invited to provide written comments no later than October 30, 2023. All comments received on or before this date will be reviewed and considered by WPSI and provided for further consideration by HRSA in determining the recommended update that it will support.

ADDRESSES: Members of the public who wish to provide comments can do so by accessing the public comment web page at https://www.womenspreventivehealth.org/.

FOR FURTHER INFORMATION CONTACT: Kimberly Sherman, HRSA, Maternal and Child Health Bureau, telephone (301) 443-8283, email: wellwomancare@hrsa.gov.

SUPPLEMENTARY INFORMATION: Under section 1001(5) of the Patient Protection and Affordable Care Act, Public Law 111-148, which added section 2713 to the Public Health Service Act, 42 U.S.C. 300gg-13, the preventive care and screenings set forth in the Guidelines are required to be covered without cost-sharing by certain group health plans and health insurance issuers. HRSA established the Guidelines in 2011 based on expert recommendations by the Institute of Medicine, now known as the National Academy of Medicine, developed under a contract with the Department of Health and Human Services. Since 2011, there have been advancements in science and gaps identified in these guidelines, including a greater emphasis on practice-based clinical considerations. Since 2016, HRSA has funded cooperative agreements with ACOG for WPSI to convene a coalition representing clinicians, academics, and consumer-focused health professional organizations to conduct a rigorous review of current scientific evidence, solicit and consider public input, and make recommendations to HRSA regarding updates to the Guidelines to improve women's health across the lifespan. HRSA then determines whether to support, in whole or in part, the recommended updates to the Guidelines. WPSI consists of an Advisory Panel and two expert committees, the Multidisciplinary Steering Committee and the Dissemination and Implementation Steering Committee, which are comprised of a broad coalition of organizational representatives who are experts in disease prevention and women's health issues. With oversight by the Advisory Panel, and with input from the Multidisciplinary Steering Committee, WPSI examines the evidence to develop new (and update existing) recommendations for women's preventive services. WPSI's Dissemination and Implementation Steering Committee takes HRSA-approved recommendations and disseminates them through the development of implementation tools and resources for both patients and practitioners.

WPSI bases its recommended updates to the Guidelines on review and synthesis of existing clinical guidelines and new scientific evidence, following the National Academy of Medicine standards for establishing foundations for and rating strengths of recommendations, articulation of recommendations, and external reviews. Additionally, HRSA requires that WPSI incorporate processes to assure opportunity for public comment, including participation by patients and consumers, in the development of its recommendations to the updated Guidelines.

The Existing Guideline States

“Screening for Urinary Incontinence

WPSI recommends screening women for urinary incontinence annually. Screening should ideally assess whether women experience urinary incontinence and whether it impacts their activities and quality of life. The Women's Preventive Services Initiative recommends referring women for further evaluation and treatment if indicated.”

Draft Updated Clinical Recommendation for Public Comment

“Screening for Urinary Incontinence

The Women's Preventive Services Initiative recommends screening women for urinary incontinence annually. Screening should assess whether women experience urinary incontinence and whether it impacts their activities and quality of life. If indicated, facilitating further evaluation and treatment is recommended.”

Discussion of Draft Updated Clinical Recommendation

WPSI recommended several minor updates to the language of this Guideline. First, the word “ideally” is recommended to be removed from the second sentence for brevity, and its removal, if accepted by HRSA, will not substantively change the existing guideline. Second, the final sentence of the clinical recommendation recommends changing the word “referring” to “facilitating” to reflect that clinicians in practice, after screening for urinary incontinence, may decide to treat or manage urinary incontinence as part of standard primary care services or refer to specialists if specialist care is needed. Lastly, WPSI recommended minor edits to the language of the Guideline for the purposes of clarity. These minor edits have no substantive effect on the requirement for coverage without cost-sharing.

Members of the public can view the complete updated draft recommendation, which includes the implementation considerations and research recommendations, by accessing the initiative's web page at https://www.womenspreventivehealth.org/.

Carole Johnson,
Administrator.

[FR Doc. 2023-21514 Filed 9-28-23; 8:45 am]

BILLING CODE 4165-15-P